NATIONAL CREDIT UNION ADMINISTRATION

Agency Information Collection Activities: Proposed Collection; Comment Request; NCUA Template: Large Credit Union Data Collection

AGENCY: National Credit Union Administration (NCUA).

ACTION: Notice and request for comment.

SUMMARY: The National Credit Union Administration (NCUA), as part of a continuing effort to reduce paperwork and respondent burden, invites the general public and other Federal agencies to comment on the following new collection, as required by the Paperwork Reduction Act of 1995 (PRA).

DATES: Written comments should be received on or before May 20, 2022 to be assured consideration.

ADDRESSES: Interested persons are invited to submit written comments on the information collection to Dawn Wolfgang, National Credit Union Administration, 1775 Duke Street, Suite 6032, Alexandria, Virginia 22314; email at PRAComments@NCUA.gov. Given the limited in-house staff because of the COVID-19 pandemic, email comments are preferred.

FOR FURTHER INFORMATION CONTACT: Address requests for additional information to Dawn Wolfgang at the address above or telephone 703-548-2279.

SUPPLEMENTARY INFORMATION:

OMB Number: 3133-NEW.

Title: NCUA Template: Large Credit Union Data Collection.

Type of Review: New collection.

Abstract: The NCUA issued regulation under 12 CFR part 702, subpart E, “Capital Planning and Stress Testing” regarding capital planning and stress testing for federally insured credit unions with $10 billion or more in assets and supervised by Office of National Examinations and Supervision (covered credit unions). The rule authorizes covered credit unions to conduct stress tests in accordance with the NCUA's requirements.

Section 702.506 provides for the necessary requirements for those credit unions to conduct supervisory stress tests. The “NCUA Template: Large Credit Union Data Collection” was developed for the credit unions to provide NCUA with the specific data needed to evaluate their internal assessments of capital adequacy and to ensure their capital resources are sufficient.

Affected Public: Private Sector: Not-for-profit institutions.

Estimated No. of Respondents: (11 current covered credit unions and 8 potential covered credit unions.) 19.

Estimated Total Annual Responses: 95.

Estimated Total Annual Burden Hours: 3,447.

Previous reporting by covered credit unions fell below the PRA threshold. Because of the increased number of covered credit unions, along with the new and revised templates, NCUA is requesting this information collection as a new collection. In calculating the “total annual burden” the following was considered: (1) Recurring burden imposed on all covered credit unions to provide NCUA the prescribed information quarterly (19 respondents × quarterly reporting × 5 hours to complete each report = 380 annual burden hours); (2) an one-time burden of 400 hours on each of the 11 current covered credit unions (a total of 4,400 hours) to develop new templates and update current templates to accommodate revisions, and (3) a one-time burden of 600 hours on each of the estimated 8 potential covered credit unions (a total of 4,800 hours) to develop all templates for this information collection requirement. The “one-time” burden is defined as information collection burden related to the upfront templates development and revision captured in a single annual reporting period (first 12 months). Because the Office of Management and Budget (OMB) grants approval for up to three years, the one-time burden explained above which represents a majority of the total burden hours has been evenly allocated over the life of the anticipated approval period (3 years).

Request for Comments: Comments submitted in response to this notice will be summarized and included in the request for OMB approval. All comments will become a matter of public record. The public is invited to submit comments concerning: (a) Whether the collection of information is necessary for the proper execution of the function of the agency, including whether the information will have practical utility; (b) the accuracy of the agency's estimate of the burden of the collection of information, including the validity of the methodology and assumptions used; (c) ways to enhance the quality, utility, and clarity of the information to be collected; and (d) ways to minimize the burden of the collection of the information on the respondents, including the use of automated collection techniques or other forms of information technology.

By Melane Conyers-Ausbrooks, Secretary of the Board, the National Credit Union Administration, on March 16, 2022.

Dated: March 16, 2022.
Dawn D. Wolfgang,
NCUA PRA Clearance Officer.

[FR Doc. 2022-05920 Filed 3-18-22; 8:45 am]

BILLING CODE 7535-01-P